DEPARTMENT OF HEALTH AND HUMAN SERVICES

Centers for Disease Control and Prevention

[Program Announcement 02104]

Cooperative Agreement to Support State Assessment Initiatives Notice of Availability of Funds

A. Purpose

The Centers for Disease Control and Prevention (CDC) announces the availability of fiscal year (FY) 2002 funds for a cooperative agreement program to improve the ability of states to assess progress toward achieving national, state, and community health objectives; to conduct health assessment through partnerships; and to use assessment information for policy development and program management. This program addresses the “Healthy People 2010” focus area of Public Health Infrastructure.

The purpose of the program is to improve the ability of states to monitor progress toward achieving measurable national, state, and community health objectives; use assessment information for public health policy development and assurance; and monitor progress toward addressing health disparities among various population subgroups.

The focus of this initiative is to produce a general knowledge related to effective assessment methods and practices that can be disseminated to and used by other states. This will be accomplished through the formation of working partnerships between state public health departments and other public and private partner organizations and groups. These groups may include, but are not limited to, state Medicaid agencies, managed care organizations, county/city health departments, philanthropic organizations, universities, hospital associations, clinical provider organizations/networks, community-based organizations, and Indian tribes.

This announcement consists of two parts:

Part A.—Building new assessment capability

Part B.—Evaluating and institutionalizing existing assessment capability and disseminating model assessment methods, systems, and approaches to other states.

Applicants may apply under either Part A or Part B to develop or improve assessment capability in one of three focus areas. These focus areas are:

1. Data Access or Linkage

Work with identified partner organization(s)/agency(s) to gain access to and analyze new data sets, or link existing data sets in new ways to increase the usefulness of the data. Data sets selected must be of primary interest to both the state health department and the partner organization(s) and integral to the mission of both. Data sets selected should also be available to most states (e.g., Behavioral Risk Factor Surveillance System (BRFSS), vital statistics, etc.) so that methods developed by award recipients can be disseminated and adopted by other states.

2. Data Dissemination Systems

Implement new systems or improve existing systems for dissemination of public health data (e.g., electronic/web-based data dissemination systems) and evaluate the impact of these systems on identified partners and users. Activities involving electronic data dissemination systems should be done in accordance with technical standards and specifications for interoperability outlined in the National Electronic Disease Surveillance System (NEDSS) guidance found at: http://www.cdc.gov/nedss, or the CDC Information Technology Functions and Specifications found at: http://www.cdc.gov/cic/functions-specs.

3. Community Health Assessment Practices

Develop, implement, and evaluate tools, strategies, and approaches to improve the capability of local public health agencies and communities to conduct meaningful community health assessments, and demonstrate how the resulting data have been used to affect public health programs or policy.

Background information on the Assessment Initiative, the role of assessment in public health, and examples of projects under each of the three focus areas described above, can be found in Attachment III of this program announcement. Attachment(s) can be found on CDC Web site at: http://www.cdc.gov/od/pgo.funding/grantmain.htm.

The Assessment Initiative provides a unique opportunity for applicants to integrate the activities/objectives of various programs and projects to achieve common goals related to improving state and local assessment capability. Attachment IV of this program announcement provides examples of other projects with potential for this type of integration.

Measurable outcomes of the program will be in alignment with one or more of the following performance goals for the Epidemiology Program Office:

1. Maximize the distribution and use of scientific information and prevention messages through modern communication technology.

2. Encourage state health departments to develop efficient and comprehensive public health information and surveillance systems by promoting the use of the Internet and by focusing on development of standards for communication and data elements.

3. Efficiently respond to the needs of our public health partners through the provision of epidemiologic assistance.

4. Implement accessible training programs to provide an effective work force for staffing state and local health departments.

B. Authority and Catalog of Federal Domestic Assistance Number

This program is authorized under sections 301(a), 311(b), and 317 of the Public Health Service Act, [42 U.S.C. section 241(a), 243(b), and 247b], as amended. The Catalog of Federal Domestic Assistance number is 93.283.

C. Eligible Applicants

Assistance will be provided only to the health departments of states or their bona fide agents, specifically, the District of Columbia, the Commonwealth of Puerto Rico, the Virgin Islands, the Commonwealth of the Northern Mariana Islands, American Samoa, Guam, the Federated States of Micronesia, the Republic of the Marshall Islands, the Republic of Palau; and federally recognized Indian tribal governments.

States/territories/tribes are invited to apply under either Part A or Part B of this announcement, but not both. No more than one application per state, territory, or tribe should be submitted.

To be eligible to apply under Part B, applicants must provide evidence that they have accomplished all of the following prior to submitting their application:

1. Successfully collaborated with one or more partner groups or organizations in their state/territory/tribe to develop an innovative system or method to improve one of the following:

a. Data access/linkage.

b. Data dissemination.

c. Community health assessment practices.

2. Implemented the system/method, resulting in a positive impact on public health programs or policy.

3. Obtained evidence of interest in the system/method by other state(s)/territory(s)/tribe(s)(i.e., letter confirming interest in adopting and using the system or method).

Applicants under Part B must also be able to describe how the system/method they have developed to improve assessment capability is generalized to other states.

Note: Title 2 of the United States Code section 1611 states that an organization described in section 501(c)(4) of the Internal Revenue Code that engages in lobbying activities is not eligible to receive Federal funds constituting an award, grant or loan.

D. Availability of Funds

Approximately $1,500,000 is available in FY 2002 to fund approximately seven to nine awards. It is expected that the awards will begin on or about September 30, 2002, and will be made for a 12 month budget period within a project period of up to five years. Funding estimates may change. Continuation awards within an approved project period will be made on the basis of satisfactory progress and the availability of funds.

Part A.—Building new assessment capability. Approximately $500,000 is available to fund approximately three to four awards under Part A. It is expected that the average award will be $140,000, ranging from $125,000 to $175,000.

Part B.—Evaluating and institutionalizing existing assessment capability and disseminating model assessment methods, systems, and approaches to other states.

Approximately $1,000,000 is available to fund approximately four to five awards under Part B. It is expected that the average award will be $225,000, ranging from $200,000 to $275,000.

Matching funds is not a requirement for this program announcement.

E. Program Requirements

In conducting activities to achieve the purpose of this program, the recipient will be responsible for the activities under 1. Recipient Activities, and CDC will be responsible for the activities listed under 2. CDC Activities.

1. Recipient Activities

Part A.—Building new assessment capability

Year One

a. Form an advisory committee that will meet a minimum of quarterly to provide guidance and direction for the project. Include representatives from each of the partner groups/organizations, as well as representatives from other key programs or divisions within the state/territorial/tribal health department whose participation is integral to the success of the project.

b. Conduct an evaluation of the current systems and methods used by each partner organization relevant to the project's focus (i.e., data access/linkage, data dissemination systems, or community health assessment practices). Identify and use available tools to assist in completing this evaluation (e.g., CDC Guidelines for Evaluating Public Health Surveillance Systems).

c. Develop a four year work plan, based on the results of the evaluation, to improve assessment capability relevant to the project's focus. The work plan should include project goals, process and outcome objectives, activities to accomplish the objectives, time frames for completion of activities, identification of project staff responsible for each activity, and specific evaluation measures that will assess whether each goal has been achieved. A work plan template is provided in Attachment II of this program announcement; the template is also available electronically at: http://www.cdc.gov/epo/dphsi/index.htm under the heading of “Capacity Building.”

d. Begin implementation of the work plan.

Years Two through Four

a. Continue implementation of the work plan.

b. Coordinate activities among project partners and with other appropriate organizational units within the state/territorial/tribal health department. Establish a forum for regular, ongoing communication between internal and external partners to carry out project activities and to identify barriers early and modify the work plan as needed.

c. Prepare and disseminate health assessment information through presentations and publication in appropriate forums.

d. Share and discuss project methodology, accomplishments, and barriers through regular participation in quarterly conference calls and an annual Assessment Initiative conference, and through contributions to the CDC Assessment Initiative Web Site.

Year Five

a. Conclude implementation of the work plan.

b. Complete a thorough evaluation of the systems and methods used to improve assessment capability. Include a discussion of the following:

i. Identified strengths and weaknesses of the system/method employed.

ii. Specific examples depicting ways in which the system/method has had a positive impact on public health programs or policy development (as indicated by the evaluation measures in the work plan).

iii. Recommendations regarding modifications or improvements needed to the system or method.

c. Prioritize project activities and outcomes according to the degree of success achieved based on the results of the evaluation. Work with partners to develop a plan to institutionalize high-priority activities/outcomes so they will continue in the absence of federal funding.

Part B.—Evaluating and institutionalizing existing assessment capability and disseminating model assessment methods, systems, and approaches to other interested states

Year One

a. Form or re-activate a project advisory committee made up of representatives from each of the relevant partner groups/organizations, as well as representatives from other key programs or divisions within the state/territorial/tribal health department whose participation is integral to the success of the project.

b. Complete a thorough evaluation of the existing system/method to improve assessment capability in the focus area selected (i.e., data access/linkage, data dissemination systems, or community health assessment practices). Document the results of this evaluation which should include, at a minimum, a discussion of the following:

i. Identified strengths and weaknesses of the system/method employed.

ii. Specific examples depicting ways in which the system/method has had a positive impact on public health programs or policy development.

iii. Summary of modifications or additions needed to improve the system or method, with supporting justification.

c. Develop a four year work plan, based on the results of the evaluation, to further improve the targeted system/method and support the dissemination and transfer of the system/method to a minimum of one other interested state/territory/tribe. The work plan should include project goals, process and outcome objectives, activities to accomplish the objectives, time frames for completion of activities, identification of project staff responsible for each activity, and evaluation measures that will assess whether each goal has been achieved. A work plan template is provided in Attachment II of this program announcement; the template also available electronically at: http://www.cdc.gov/epo/dphsi/index.htm under the heading of “Capacity Building.”

d. Begin implementation of the work plan.

Years Two Through Four

a. Continue implementation of the work plan.

b. Coordinate activities among project partners, including other appropriate organizational units within the state/territorial/tribal health department, and representatives from the recipient state(s)/territory(s)/tribe(s) selected. Establish a forum for regular, ongoing communication between internal and external partners to carry out project activities and to identify barriers early and implement modifications to the work plan as needed.

c. Provide ongoing technical assistance and training to support the successful transfer and implementation of the model system/method by the recipient state(s)/territory(s)/tribe(s) identified. This should include a minimum of one annual site visit to the recipient state(s)/territory(s)/tribe(s) or one annual training session conducted by the sponsoring state, to which representatives of the recipient state(s)/territory(s)/tribe(s) are invited.

d. Prepare and disseminate health assessment information through presentations and publication in appropriate forums.

e. Share and discuss project methodology, accomplishments, and barriers through regular participation in quarterly conference calls and an annual Assessment Initiative conference, and through contributions to the CDC Assessment Initiative Web Site.

Year Five

a. Conclude implementation of the work plan.

b. Work with partners to develop a plan to institutionalize improvements to the system/method; this includes identifying resources to sustain the project in the absence of federal funding.

c. Work with representatives of the recipient state(s)/territory(s)/tribe(s) to conduct an evaluation of the model system/method transfer. Document the results of this evaluation, which should include, at a minimum, a discussion of the following:

i. Outcome of the transfer (i.e., To what extent has the recipient state(s)/territory(s)/tribe(s) been successful in adopting the new system/method and what has been the resulting impact on public health programs or policy?)

ii. Discussion of the factors that had a positive or negative influence on the outcome of the transfer from the perspective of both the donor and recipient state(s)/territory(s)/tribe(s)

iii. Recommendations regarding next steps

2. CDC Activities

a. Provide coordination among the recipient organizations by assisting in the transfer of information, resources, and methodologies.

b. Provide ongoing guidance, consultation, and technical assistance in conducting recipient activities.

c. Provide project oversight; engage in ongoing monitoring activities.

d. Sponsor training, as appropriate, on public health assessment practices, methods, and approaches and other relevant topics.

e. Provide assistance to recipients in analyzing, interpreting, and using health assessment data to measure program effectiveness, improve interventions, and formulate relevant policies.

f. Collaborate with recipients in preparing and presenting relevant findings to appropriate state and national audiences.

F. Content

Letter of Intent (LOI)

A LOI is requested, but not required, for this program. The program announcement title and number must appear in the LOI. The letter should be no more than two single spaced pages, printed on one side, with one inch margins, and unreduced fonts. LOIs will be used to estimate the potential review workload and avoid conflict of interest in the review. The letter should include the following information:

1. Number and title of the CDC program announcement

2. Name, address, telephone number, and e-mail address of the Principal Investigator(s)

3. Information as to whether the applicant will be applying under Part A or Part B of the announcement

4. The proposed focus area of the project (i.e., data access/linkage, data dissemination systems, or community health assessment practices)

5. Part B applicants should also describe the existing system or method for improving assessment capability on which their proposed project will be based.

The LOI should be submitted to the Grants Management Specialist listed under the “Where to Obtain Additional Information” section of this announcement no later than Friday, July 5, 2002.

Applications

Applicants should use the information in the Program Requirements, Other Requirements, and Evaluation Criteria sections to develop the application content. Applications will be evaluated on the criteria listed. The narrative should be no more than 35 single spaced pages, printed on one side, with one inch margins, and unreduced fonts. The program announcement title and number must appear in the application.

Applicants should also submit appendices including curriculum vitae, organizational charts, and letters of support/endorsement from participating partners, as appropriate. The appendices should not exceed an additional 30 pages, printed on one side.

All materials should be provided in an unbound, one-sided, print format, and suitable for photocopying.

Approval signatures from the state epidemiologist and director of the state center for health statistics, or equivalent, are required on the application.

If research is proposed, applicants should also submit an Optional Form 310, Protection of Human Subjects Assurance Identification/Certification/Declaration. This form can be accessed at: http://forms.psc.gov/forms/OF/OF-310.pdf.

Applications for funding under Part A should contain the following:

1. Executive Summary

Provide a clear, concise, two page summary of the following:

a. Background/need for the project

b. Focus area selected (i.e., data access/linkage, data dissemination systems, or community health assessment practices)

c. Internal and external project partners identified

d. Major goals and objectives proposed

e. Project's potential for broad public health impact (e.g., generable to other states/territories/ tribes)

f. Applicant's ability to carry out proposed goals and objectives

g. Requested amount of Federal funding

2. Background and Need

Describe the current role of assessment in setting the organization's public health priorities, the organization's current assessment capability, and how this project will strengthen that capability.

3. Project Design and Evaluation

a. Identify the focus area for the project (i.e., data access/linkage, data dissemination systems, or community health assessment practices).

b. Identify the internal and external partner organizations/groups that will be collaborating on the project, along with a rationale for their involvement.

c. Provide (in the appendices) a copy of the applicant agency's organizational chart, indicating where the proposed Assessment Initiative Project will be placed. The chart should also identify the internal linkages with other programs/divisions that will be necessary to successfully carry out the project.

d. Develop a work plan to improve assessment capability relevant to the focus area selected. The work plan should include both long-term (five year) goals and short-term (one year) goals. Short-term goals should have corresponding objectives, activities, time frames, and responsible team members identified. Both short- and long-term goals should have corresponding evaluation measures (“measures of effectiveness”) that will be used to measure the intended outcome of the goal. Definitions and requirements for these components are described below:

i. Project goals (general statements of what the project hopes to accomplish)

Note: It is mandatory that applicants include a goal aimed at identifying resources to sustain successful project activities beyond the five year funding cycle.

Applicants selecting focus area two, and whose projects involve electronic data dissemination systems, should also include a goal aimed at achieving the interoperability standards and specifications outlined in the NEDSS guidance found at: http://www.cdc.gov/nedss, or the CDC Information Technology Functions and Specifications found at: http://www.cdc.gov/cic/functions-specs.

ii. Process and outcome objectives (specific, measurable statements that describe what is to be accomplished under each goal)

iii. Activities (action steps/tasks that will be completed under each objective in order to achieve that objective)

iv. Time frame (anticipated time frame for accomplishing each activity).

v. Project staff responsible for each activity (should include representatives from all partner organizations).

vi. Evaluation measures (quantitative measures of effectiveness that will be used to measure the intended outcome of the goal). Evaluation measures should include components to assess the project's impact on public health programs or policy.

Applicants should use the work plan template provided to develop their short-term (one year) work plan. This template is included as Attachment II of this program announcement; it is also available electronically at:

http://www.cdc.gov/epo/dphsi/index.htm under the heading of “Capacity Building.”

Long-term (five year) goals and corresponding evaluation measures need not be included on the template, but should be included in the narrative component of this section.

4. Ability to Carry Out the Proposed Project

a. Provide examples of previous efforts to conduct assessment activities and describe the impact these activities have had on public health programs or policy. Where possible, include examples in which data from two or more public or private sources have been integrated to serve this purpose.

b. Describe the organization's current relationship with identified partners with regard to assessment; discuss the availability of data and information for the project from the proposed partners.

c. Identify the proposed project staff and describe their qualifications and experience in areas relevant to the project's focus (e.g., epidemiology, surveillance, statistical applications, program management, policy development, community health assessment, electronic health information systems). Include curriculum vitae for key project staff in the appendices.

5. Potential for Public Health Impact

a. Describe the applicability and relevance of the proposed project, and the type of data and information targeted, to other states/territories/tribes.

b. Describe ways in which this project will benefit the applicant organization and external partner organizations.

6. Commitment from Internal/External Partners

Provide evidence of internal and external partners' willingness to support and be actively involved in carrying out project objectives. (If letters of support are submitted, they should be included in the Appendices).

7. Budget

a. Provide a detailed budget request and complete line item justification for all proposed operating expenses consistent with the recipient activities proposed. Be precise about the purpose of each budget item as it relates to the project.

b. The annual budget should include funding for two staff members to make one three-day trip to attend an annual Assessment Initiative Conference. (Base cost estimates on travel to Atlanta).

c. If applicable, applicants requesting monies for contracts should include the name of the person or firm to be contracted, a description of the services to be performed, an itemized and detailed budget including justification, the period of performance, and the method of selection.

d. Funding levels for years two through five should be estimated.

8. Approval signatures from the state epidemiologist and director of the state center for health statistics, or equivalent.

9. Appendix containing curriculum vitae, organizational charts, and letters of support/endorsement from participating partners, as appropriate.

Applications for funding under Part B should contain the following:

1. Executive Summary

Provide a clear, concise, two page summary of the following:

a. Focus area selected (i.e., data access/linkage, data dissemination systems, or community health assessment practices).

b. Brief description of the existing system/method the project will focus on.

c. Impact on public health programs or policy that resulted from the implementation of the system/method.

d. Major goals and objectives proposed.

e. Internal and external project partners identified and specific state(s)/territory(s)/tribe(s) identified to adopt the system/method.

f. Project's potential for broad public health impact (e.g. the ability to generalize to other states/territories/tribes).

g. Requested amount of federal funding.

2. Description of Existing System/Method to Improve Assessment Capability

a. Provide a thorough description of the existing system/method for assessment and identify the appropriate focus area it addresses (i.e., data access/linkage, data dissemination systems, or community health assessment practices).

b. Explain how the system/method is generalized to other states/territories/tribes.

c. List internal/external partners who collaborated on developing/implementing the existing system and explain their roles in the process.

d. Describe the impact on public health programs or policy that resulted from implementing the system/method.

e. Note: It is mandatory that applicants include documentation from a minimum of one other state/territory/tribe confirming their interest in adopting and utilizing the system/method.

3. Project Design and Evaluation

a. Identify the external and internal partner organizations/groups that will be collaborating on the project, along with a rationale for their involvement.

b. Provide (in the appendices) a copy of the applicant agency's organizational chart indicating where the proposed Assessment Initiative Project will be placed. The chart should also identify the internal linkages with other programs/divisions that will be necessary to successfully carry out the project.

c. Develop a work plan to improve assessment capability relevant to the focus area selected.

The work plan should include both long-term (five year) goals and short-term (one year) goals. Short-term goals should have corresponding objectives, activities, time frames, and responsible team members identified. Both short and long-term goals should have corresponding evaluation measures that will be used to measure the intended outcome of the goal. Definitions and requirements for these components are described below:

i. Goals (general statements of what the project hopes to accomplish);

Note: It is mandatory that applicants include a goal aimed at identifying resources to sustain successful project activities beyond the five year funding cycle, and a goal aimed at successfully transferring the system/method to a minimum of one other interested state/territory/tribe.

Applicants selecting focus area two, and whose projects involve electronic data dissemination systems, should also include a goal aimed at achieving the interoperability standards and specifications outlined in the NEDSS guidance found at: http://www.cdc.gov/nedss, or the CDC Information Technology Functions and Specifications found at: http://www.cdc.gov/cic/functions-specs.

ii. Process and outcome objectives (specific, measurable statements that describe what is to be accomplished under each goal).

iii. Activities (action steps/tasks that will be completed under each objective in order to achieve that objective).

iv. Time frame (anticipated time frame for accomplishing each activity).

v. Project staff responsible for each activity (should include representatives from all partner organizations).

vi. Evaluation measures (quantitative measures of effectiveness that will be used to measure the intended outcome of the goal); evaluation measures should include components to assess the project's impact on public health programs or policy.

Applicants should use the work plan template provided to develop their short-term (one-year) work plan. This template is included as Attachment II of this program announcement; it is also available electronically at: http://www.cdc.gov/epo/dphsi/index.htm under the heading of “Capacity Building.”

Long-term (five year) goals and corresponding evaluation measures need not be included on the template but should be included in the narrative component of this section.

4. Ability to Carry Out the Proposed Project

Identify the proposed project staff and describe their qualifications and experience in areas relevant to the project's focus (e.g., epidemiology, surveillance, statistical applications, program management, policy development, community health assessment, electronic health information systems). Include curriculum vitae for key project staff in the appendices.

5. Potential for Public Health Impact

a. Describe the applicability and relevance of the proposed project, and the type of data and information targeted, to other states/territories/tribes.

b. Describe ways in which this project will benefit the applicant organization, the external partner organizations, and the specific recipient state(s)/territory(s)/tribe(s) selected to adopt the system/method.

6. Commitment From Internal/External Partners.

Provide evidence of internal and external partner's willingness to support, and be actively involved in, carrying out project objectives. (If letters of support are submitted, they should be included in the Appendices).

7. Budget

a. Provide a detailed budget request and complete line-item justification for all proposed operating expenses consistent with the activities proposed. Be precise about the purpose of each budget item as it relates to the project.

b. The annual budget should include funding for two staff members to make one three day trip to attend an annual Assessment Initiative Conference. (Base cost estimates on travel to Atlanta).

c. If applicable, applicants requesting monies for contracts should include the name of the person or firm to be contracted, a description of the services to be performed, an itemized and detailed budget including justification, the period of performance, and the method of selection.

d. Funding levels for years two through five should be estimated.

8. Approval signatures from the state epidemiologist and director of the state center for health statistics, or equivalent.

9. Appendix containing curriculum vitae, organizational charts, and letters of support/endorsement from participating partners, as appropriate.

G. Submission and Deadline

Letter of Intent (LOI)

On or before Friday, July 5, 2002, submit the LOI to the Grants Management Specialist identified in the “Where to Obtain Additional Information” section of this announcement. (A letter of intent is requested but not required).

Application

Submit the original and two copies of PHS 5161-1 (OMB Number 0920-0428). Forms are available in the application kit and at the following Internet address: http://www.cdc.gov/od/pgo/forminfo.htm.

Application forms must be submitted in the following order:

Cover Letter

Table of Contents

Application

Budget Information Form

Budget Justification

Checklist

Assurances

Certifications

Disclosure Form

HIV Assurance Form (if applicable)

Human Subjects Certification (if applicable)

Indirect Cost Rate Agreement (if applicable)

Narrative

On or before 5 P.M. Eastern Time on Friday, July 19, 2002, submit the application to the Technical Information Management Section, Office of the Director, Procurement and Grants Office, 2920 Brandywine Road, Suite 3000, Atlanta, GA 30341.

Deadline: Letters of intent and applications shall be considered as meeting the deadline if they are received before 5 p.m. on the deadline date. Applicants sending applications by the United States Postal Service or commercial delivery services must ensure that the carrier will be able to guarantee delivery of the application by the closing date and time. If an application is received after closing due to the following: (1) carrier error, when the carrier accepted the package with a guarantee for delivery by the closing date and time, or (2) significant weather delays or natural disasters, CDC will upon receipt of proper documentation, consider the application as having been received by the deadline.

Applications which do not meet the above criteria will not be eligible for competition and will be discarded. Applicants will be notified of their failure to meet the submission requirements.

H. Evaluation Criteria

Application

Applicants are required to provide Measures of Effectiveness that will demonstrate the accomplishment of the various identified objectives of the cooperative agreement. Measures of Effectiveness must relate to the performance goals as stated in section “A. Purpose” of this announcement. Measures must be objective and quantitative and must measure the intended outcome. These Measures of Effectiveness shall be submitted with the application and shall be an element of evaluation.

Note: For the purposes of this cooperative agreement, “Measures of Effectiveness” are defined as the “Evaluation Measures” discussed under Evaluation Criteria.

Each application will be evaluated individually against the following criteria by an independent review group appointed by CDC.

Applications for Funding under Part A:

1. Project Design (25 points)

a. The extent to which the applicant has identified one focus area for the project (i.e., data access/linkage, data dissemination systems, or community health assessment practices).

b. The extent to which the applicant has identified internal and external project partners, and included an organizational chart in the appendices showing where the project will be placed and the necessary linkages with other programs/divisions.

c. The degree to which the applicant provides a clear and organized proposed project plan.

d. The extent to which the work plan and time line appear reasonable and consistent with the guidelines in the program announcement (i.e., goals, objectives, and activities are appropriate based on the recipient activities described in the program announcement; both five year and one year goals are documented; one year goals have corresponding measurable objectives, activities, time frames, and responsible staff identified).

e. The extent to which the applicant has included a reasonable goal aimed at identifying resources to sustain successful project activities beyond the five year funding cycle.

f. For applicants whose projects involve electronic data dissemination systems, the extent to which a goal has been included to address achievement of the interoperability standards and specifications outlined in the NEDSS guidance found at: http://www.cdc.gov/nedss, or the CDC Information Technology Functions and Specifications found at: http://www.cdc.gov/cic/functions-specs.

2. Potential for Public Health Impact (20 points)

a. The extent to which the applicant describes anticipated project outcomes and discusses the related impact on public health policy and/or program management for the participating organizations/agencies.

b. The extent to which the applicant demonstrates the significance of project goals and proposed outcomes to a broader public health audience, including other states/territories/tribes.

3. Background and Need (15 points)

a. The extent to which the applicant has adequately described the organization's current assessment capability and provided a justification for the project.

b. The extent to which the applicant has adequately described how this project will strengthen the capability to conduct assessment activities.

4. Evaluation (15 points)

a. The extent to which the applicant provides reasonable evaluation measures (i.e., required “measures of effectiveness”) that measure the intended outcomes of both one year and five year goals (see work plan template for more information).

b. The extent to which the evaluation measures provided are appropriate to assess the project's impact on public health programs or policy.

5. Ability to Carry Out the Proposed Project (15 points)

a. The extent to which the applicant provides information on previous assessment activities conducted and describes the impact of those activities on public health programs or policy.

b. The extent to which the applicant provides evidence of prior experience in integrating information/data from two or more existing public or private sources for program development and evaluation.

c. The extent to which the applicant provides evidence of a working relationship with identified partners and demonstrates the availability of data from those partners, as appropriate.

d. The extent to which the applicant demonstrates the ability to successfully carry out the project, taking into consideration the depth, breadth, and complexity of the proposed objectives, the available resources/staff, and the proposed time line.

e. The extent to which the applicant provides evidence that key project staff have experience in areas relevant to the project's focus (e.g., epidemiology, surveillance, statistical applications, program management, policy development, community health assessment, electronic health information systems).

6. Commitment from Internal/External Partners (10 points)

a. The extent to which the applicant provides evidence that the organization has interest, support, and commitment from identified external partner organizations and groups.

b. The extent to which the applicant provides evidence that the organization has internal support for the project from administration and from other divisions/departments whose involvement is integral to the success of the project.

7. Budget and Justification (not scored)

The extent to which the proposed budget is adequately justified, reasonable, and consistent with this program announcement and applicant's implementation plan.

8. Human Subjects Protection (not scored)

If applicable, the extent to which the application adequately addresses the requirements of Title 45 CFR, part 46 for the protection of human subjects.

Applications for Funding Under Part B

1. Description of Existing System/Method to Improve Assessment Capability (25 points)

a. The extent to which the applicant provides a thorough description of a preexisting system/method developed and implemented by the applicant to improve assessment capability around data access/linkage, data dissemination, or community assessment practices.

b. The extent to which the applicant provides reasonable evidence that the system/method is able to generalize to other states/territory(s)/tribe(s).

c. The extent to which the applicant provides evidence that they have collaborated with external partner organizations/groups in the development and implementation of the system or method.

d. The extent to which the applicant provides evidence of a positive impact on public health policy or program management as a result of implementing the system/method.

e. The extent to which the applicant provides evidence of a minimum of one other state/territory/tribe's interest in using the system/method (i.e., letters/written documentation). This is a mandatory requirement.

3.2. Project Design (25 points)

a. The extent to which the applicant identifies internal and external project partners and includes an organizational chart in the appendices showing where the project will be placed and the necessary linkages with other programs/divisions.

b. The degree to which the applicant provides a clear and organized proposed project plan.

c. The extent to which the work plan and time line appear reasonable and consistent with the guidelines in the program announcement (i.e., goals, objectives, and activities are appropriate based on the recipient activities described in the program announcement; both five year and one year goals are documented; one year goals have corresponding measurable objectives, activities, time frames, and responsible staff identified).

d. The extent to which the applicant includes a reasonable goal aimed at successfully disseminating the system/method to a minimum of one other state/territory/tribe and a goal aimed at identifying resources to sustain successful project activities beyond the five year funding cycle.

e. For applicants whose projects involve electronic data dissemination systems, the extent to which a goal has been included to address achievement of the interoperability standards and specifications outlined in the NEDSS guidance found at: http://www.cdc.gov/nedss, or the CDC Information Technology Functions and Specifications found at: http://www.cdc.gov/cic/functions-specs.

3. Evaluation (15 points)

a. The extent to which the applicant provides reasonable evaluation measures (i.e., required “measures of effectiveness”) to measure the intended outcomes of both one year and five year goals (see work plan template for more information).

b. The extent to which the evaluation measures provided are appropriate to assess the project's impact on public health programs or policy.

4. Ability to Carry Out the Proposed Project (15 points)

a. The extent to which the applicant demonstrates the ability to successfully carry out the project, taking into consideration the depth, breadth, and complexity of the proposed objectives, the available resources/staff, and the proposed time line.

b. The extent to which the applicant provides evidence that key project staff have experience in areas relevant to the project's focus (e.g., epidemiology, surveillance, statistical applications, program management, policy development, community health assessment, electronic health information systems).

5. Potential for Public Health Impact (15 points)

a. The extent to which the applicant describes anticipated project outcomes and discusses the related impact on public health policy and/or program management for the participating organizations/agencies and the state(s)/territory(s)/tribe(s) selected to adopt the system/method.

b. The degree to which the applicant demonstrates the relevance/the ability to generalize project goals and proposed outcomes to a broader public health audience, including other states/territories/tribes.

6. Commitment from Internal/External Partners (5 points)

a. The extent to which the applicant organization provides evidence of interest, support, and commitment from identified external partner organizations and groups.

b. The extent to which the applicant organization provides evidence that they have internal support for the project from administration and from other divisions/departments whose involvement is integral to the success of the project.

7. Budget and Justification (not scored)

The extent to which the proposed budget is adequately justified, reasonable, and consistent with this program announcement and applicant's implementation plan.

8. Human Subjects Protection (not scored)

If applicable, the extent to which the application adequately addresses the requirements of Title 45 CFR, Part 46 for the protection of human subjects.

I. Other Requirements

Technical Reporting Requirements

Provide CDC with original plus two copies of

1. Semiannual progress reports (The progress report will include a data requirement that demonstrates measures of effectiveness). A format will be provided by the Project Officer.

2. Financial status report, no more than 90 days after the end of the budget period.

3. Final financial and performance reports, no more than 90 days after the end of the project period.

4. Applicants are required to provide Measures of Effectiveness that will demonstrate the accomplishment of the various identified objectives of the grant or cooperative agreement.

Send all reports to the Grants Management Specialist identified in the “Where To Obtain Additional Information” section of this announcement.

The following additional requirements are applicable to this program. For a complete description of each, see Attachment I of this program announcement.

AR-1 Human Subjects Requirements

AR-2 Requirements for Inclusion of Women and Racial and Ethnic Minorities in Research

AR-7 Executive Order 12372 Review

AR-9 Paperwork Reduction Act Requirements

AR-10 Smoke-Free Workplace Requirements

AR-11 Healthy People 2010

AR-12 Lobbying Restrictions

AR-22 Research Integrity

J. Pre-application Conference Call

A teleconference will be held on Friday, June 28, from 1 to 2:30 P.M. Eastern Time, for all interested applicants. The purpose of the call is to describe the application process and respond to any questions regarding the program announcement. To connect to the call, dial: 1-800-311-3437 and enter the following conference code: 339555. Participants in the Atlanta area should dial: (404)639-3277 to connect to the call and should not use the 800 number.

K. Where To Obtain Additional Information

This and other CDC announcements can be found on the CDC home page Internet address— http://www.cdc.gov. Click on “Funding” then “Grants and Cooperative Agreements.”

To obtain business management technical assistance, contact: Mattie B. Jackson, Grants Management Specialist, Requisition and Assistance Branch A, Procurement and Grants Office, Centers for Disease Control and Prevention, 2920 Brandywine Road, Room 3000, Atlanta, GA 30341-4146, Telephone number: (770) 488-2696, E-mail address: mij3@cdc.gov.

For program technical assistance, contact: Pat Schumacher, Epidemiology Program Office, Division of Public Health Surveillance & Informatics, Applied Sciences Branch, Centers for Disease Control and Prevention, 4770 Buford Highway, MS K-74, Atlanta, GA 30341-3717, Telephone: (770) 488-8375, E-mail address: prs5@cdc.gov.

Dated: June 6, 2002.
Edward Schultz,
Deputy Director, Procurement and Grants Office, Centers for Disease Control and Prevention.

[FR Doc. 02-14729 Filed 6-11-02; 8:45 am]

BILLING CODE 4163-18-P